DEPARTMENT OF ENERGY

Federal Energy Regulatory Commission

[Docket No. RP00-386-001]

Destin Pipeline Company, L.L.C.; Notice of Proposed Changes in FERC Gas Tariff

August 24, 2000.

Take notice that on August 17, 2000, Destin Pipeline Company, L.L.C. (Destin) tendered for filing the following tariff sheet:

Substitute Second Revised Sheet No. 96

The purpose of the filing is to reflect the changes required by the Commission pursuant to letter order issued August 11, 2000.

Any person desiring to protest this filing should file a protest with the Federal Energy Regulatory Commission, 888 First Street, NE., Washington, DC 20426, in accordance with Section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-22106 Filed 8-29-00; 8:45 am]

BILLING CODE 6717-01-M